DEPARTMENT OF COMMERCE

National Oceanic and Atmospheric Administration

[I.D. 082102A]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its SOPPS (Statement of Organization Practices and Procedures) Committee, Information and Education Committee, Protected Resources Committee, NEPA (National Environmental Policy Act) Committee, Advisory Panel Selection Committee, Shrimp Committee, Spiny Lobster Committee, Snapper Grouper Committee, Highly Migratory Species Committee, Dolphin Wahoo Committee. A public hearing on the revised Atlantic Dolphin Wahoo Fishery Management Plan (FMP) will be held and a public comment period will be held to address lobster issues. There will also be a full Council Session.

DATES: The meetings will be held in September 2002. See SUPPLEMENTARY INFORMATION for specific dates and times.

ADDRESSES: The meetings will be held at the Town and Country Inn, 2008 Savannah Highway, Charleston, SC 29407. Telephone: (1-800) 334-6660 or (843) 571-1000.

Copies of documents are available from Kim Iverson, Public Information Officer, South Atlantic Fishery Management Council, One Southpark Circle, Suite 306, Charleston, SC 29407-4699.

FOR FURTHER INFORMATION CONTACT: Kim Iverson, Public Information Officer; telephone: 843-571-4366; fax: 843-769-4520; email: kim.iverson@safmc.net.

SUPPLEMENTARY INFORMATION:

Meeting Dates

1. SOPPs Committee Meeting: September 16, 2002, 10-11: a.m.

The SOPPs Committee will meet to review the status of the Council's Statement of Organizational Practices and Procedures and develop recommended revisions.

2. Information and Education Committee Meeting: September 16, 2002, 11-12 Noon

The Information and Education Committee will meet to review current materials, projects and activities. The Committee will also review and make revisions to a draft strategic plan and discuss upcoming meetings.

3. Protected Resources Committee Meeting: September 16, 2002, 1:30-3 p.m.

The Protected Resources Committee will meet to develop recommendations for a Protected Resources Advisory Panel, discuss the Committee's direction and scope of its work.

4. NEPA Committee Meeting: September 16, 2002, 3-4:30 p.m.

The NEPA Committee will meet to review and discuss Committee objectives, direction and scope of its work and receive a presentation regarding the Pacific Groundfish PEIS (Programatic Environmental Impact Statement).

5. Advisory Panel Selection Committee Meeting (CLOSED): September 16, 2002, 4:30-6 p.m.

The Advisory Panel Selection Committee will meet in to review current applications for advisory panel positions and develop recommendations.

6. Shrimp Committee Meeting: September 17, 2002, 8:30-10:30 a.m.

The Shrimp Committee will meet to review the draft options paper for Shrimp Amendment 6 and provide direction to staff regarding revisions. The Committee will also discuss the status of the new TED (Turtle Excluder Device) rule.

7. Spiny Lobster Committee Meeting: September 17, 2002, 10:30-12 Noon

The Spiny Lobster Committee will meet to review and develop recommendations on Florida's request for regulatory action. The Committee will also review and approve a Regulatory Amendment from the Gulf of Mexico Fishery Management Council if it is available at the meeting.

8. Snapper Grouper Committee Meeting: September 17, 2002, 1:30-3:30 p.m., and continued on September 18 from 8:30 a.m.-5 p.m.

The Snapper Grouper Committee will hear a status report on stock assessments for vermilion snapper and black sea bass and an additional report from NOAA Fisheries (National Marine Fisheries Service) Southeast Regional Office regarding capacity work in the snapper grouper fishery. The Committee will review a draft of Amendment 13 to the Snapper Grouper Fishery Management Plan (FMP) and provide additional direction to staff. The Committee will also review a draft of Amendment 14 to the Snapper Grouper FMP and provide direction to staff.

9. Highly Migratory Species Committee Meeting: September 17, 2002, 3:30-5:30 p.m.

The Highly Migratory Species Committee will meet to review the status of the listing of white marlin under the Endangered Species Act (ESA), discuss bluefin tuna allocations and issues related to the fall meeting of ICCAT (International Commission for the Conservation of Atlantic Tuna).

10. Dolphin Wahoo Committee Meeting: September 19, 2002, 8:30-12: Noon

Note: A public hearing regarding the revised Atlantic Dolphin Wahoo FMP will be held September 19th beginning at 8:30 a.m. Immediately following the public hearing, the Dolphin Wahoo Committee will receive a briefing on the status of the ACCSP (Atlantic Coastal Cooperative Statistics Program) including the bycatch monitoring component. The Committee will then review and develop recommendations on the revised Atlantic Dolphin Wahoo FMP.

11. Council Session: September 19, 2002, 1:30-6 p.m.

From 1:30-1:45 p.m., the Council will have a Call to Order, introductions and roll call, adoption of the agenda, and approval of the June 2002 meeting minutes.

From 1:45-2 p.m., the Council will conduct elections for Chairman and Vice Chairman positions and make presentations.

From 2-2:45 p.m., the Council will hear a report from the Spiny Lobster Committee and address Committee recommendations regarding Florida's regulation request.

Beginning at 2 p.m., a public comment period will be held on the State of Florida's request for regulation changes involving the use of short lobsters. Immediately following the comment period, the Council will discuss the issue and make recommendations to staff.

From 2:45-3:30 p.m., the Council will hear a report from the Dolphin Wahoo Committee and take action on the Atlantic Dolphin Wahoo FMP.

From 3:30-3:45 p.m., the Council will hear a report from the Habitat and Environmental Protection Committee.

From 3:45-4:p.m., the Council will hear a report from the Shrimp Committee and approve options for Amendment 6 to the Shrimp FMP.

From 4-4:30 p.m., the Council will hear a report from the Snapper Grouper Committee.

From 4:30-5 p.m., the Council will hear a report from the Advisory Panel Selection Committee and appoint new advisory panel members.

From 5-6 p.m., the Council will receive a legal briefing on litigation affecting the Council (CLOSED SESSION).

12. Council Session: September 20, 2002, 8:30 a.m.-12:00 Noon

From 8:30-8:45 a.m., the Council will hear a report from the SOPPs Committee and approve revised SOPPs for submission to the Secretary of Commerce.

From 8:45-9 a.m., the Council will receive a report from the Information and Education Committee.

From 9-9:15 a.m., the Council will hear a report from the Protected Resources Committee.

From 9-9:30 a.m., the Council will hear a report from the NEPA Committee.

From 9:30-10 a.m., the Council will receive a report from the Highly Migratory Species Committee.

From 10-10:30 a.m., the Council will hear NMFS status reports on the Golden/Red Crab FMP management unit emergency request, Shrimp Amendment 5, the Sargassum FMP and the SAW/SARC (Stock Assessment Workshop/Stock Assessment Review Committee). NOAA Fisheries will also give status reports on landings for Atlantic king mackerel, Gulf king mackerel (eastern zone), Atlantic Spanish mackerel, snowy grouper & golden tilefish, wreckfish, greater amberjack and south Atlantic octocorals.

From 10:30-12 Noon, the Council will hear agency and liaison reports, discuss other business and upcoming meetings. Documents regarding these issues are available from the Council office (see ADDRESSES).

Although non-emergency issues not contained in this agenda may come before this Council for discussion, those issues may not be the subject of formal Council action during this meeting. Council action will be restricted to those issues specifically listed in this notice and any issues arising after publication of this notice that require emergency action under section 305 (c) of the Magnuson-Stevens Act, provided the public has been notified of the Council’s intent to take final action to address the emergency.

Special Accommodations

These meetings are physically accessible to people with disabilities. Requests for sign language interpretation or other auxiliary aids should be directed to the Council office (see ADDRESSES) by September 6, 2002.

Dated: August 21, 2002.
Richard W. Surdi,
Acting Director, Office of Sustainable Fisheries, National Marine Fisheries Service.

[FR Doc. 02-21655 Filed 8-23-02; 8:45 am]

BILLING CODE 3510-22-S